DEPARTMENT OF HEALTH AND HUMAN SERVICES

National Institutes of Health

National Heart, Lung, and Blood Institute; Amended Notice of Meeting

Notice is hereby given of a change in the meeting of the National Heart, Lung, and Blood Institute Special Emphasis Panel, March 24, 2020, 08:00 a.m. to 05:00 p.m., Embassy Suites at Chevy Chase Pavilion, 4300 Military Road NW, Washington, DC 20015 which was published in the Federal Register on January 29, 2020, 85 FR 5221.

The NHLBI Special Emphasis Panel meeting is being amended due to a change in the meeting format. This one-day meeting to be held on March 24, 2020 will be a teleconference meeting. The meeting is closed to the public.

Dated: March 13, 2020.
Ronald J. Livingston, Jr.,
Program Analyst, Office of Federal Advisory Committee Policy.

[FR Doc. 2020-05625 Filed 3-17-20; 8:45 am]

BILLING CODE 4140-01-P